ENVIRONMENTAL PROTECTION AGENCY

[FRL-6904-9]

Agency Information Collection Activities: Proposed Collection; Comment Request; Soil Ingestion Research Study

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Soil Ingestion Research Study ( EPA ICR Number 1965.01). Before submitting the ICR to OMB for review and approval, EPA is soliciting comments on specific aspects of the proposed information collection as described below.

DATES: Comments must be submitted on or before January 22, 2001.

ADDRESSES: Comments submitted by regular U.S. Postal Service mail should be sent to: Docket Coordinator, Superfund Docket Office, Mail Code 5201G, U.S. Environmental Protection Agency Headquarters, Ariel Rios Building, 1200 Pennsylvania Avenue, NW., Washington, DC 20460. To ensure proper receipt by EPA, it is imperative that you identify docket control number SOIL-INGEST in the subject line on the first page of your comment. Comments may also be submitted electronically or in person. Please follow the detailed instructions for these submission methods as provided in unit III of the SUPPLEMENTARY INFORMATION section. Copies of the ICR may be obtained from this office (contact Larry Zaragoza 703-603-8867), or the Office of Environmental Information's ICR website at http://www.epa.gov/icr/.

FOR FURTHER INFORMATION CONTACT: Larry Zaragoza, Office of Emergency and Remedial Response, at 703-603-8867/703-603-9133 (fax), email: Zaragoza.Larry@EPA.Gov.

SUPPLEMENTARY INFORMATION: Affected Entities: Entities potentially affected by this action are those which agree to participate in a research study on soil ingestion.

Title: Soil Ingestion Research, (EPA ICR No. 1965.01).

Abstract: This ICR supports research to examine the amount of soil ingested. Soil is ingested in two ways, incidental ingestion from everyday hand to mouth activity and ingestion resulting from inhaled particles of soil that are deposited in upper and middle respiratory tract and swallowed. The ingestion of soil is important because contaminated soils from a hazardous waste site poses risks to individuals exposed to contaminated soil. This research should help any environmental program concerned with contaminated soils but is specifically being sponsored by Superfund. This research will evaluate ingestion by comparing the amount of trace metals that are ingested in food with the amount of metals that are excreted, any amount in excess of the ingested trace metals is attributed to incidental soil ingestion. Because of the possibility of trace metal ingestion from a variety of sources (like food and toothpaste), a questionnaire to identify and characterize sources of trace metals that can affect daily variation in trace metals is an important part of the experimental design of these studies. About 20 study volunteers are paid and are expected to participate in this study for about two weeks. Each night the study participants would participate in a questionnaire that will later be used to help interpret daily variations in trace metals. An agency may not conduct or sponsor, and a person is not required to respond to, a collection of information unless it displays a currently valid OMB control number. The OMB control numbers for EPA's regulations are listed in 40 CFR part 9 and 48 CFR Chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: During the study, paid research subjects would fill out a questionnaire on a daily basis. Questions could take 5 minutes. This reporting burden would involve approximately 20 research subjects who are expected to participate in a study for 2 weeks. This information would be collected by the researchers at the research institution conducting the study and the data would be maintained by this group, not the Federal government. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 24, 2000.
Elaine F. Davies,
Acting Director, Office of Emergency and Remedial Response.

[FR Doc. 00-29769 Filed 11-20-00; 8:45 am]

BILLING CODE 6560-50-U